FEDERAL COMMUNICATIONS COMMISSION

47 CFR Part 73

[DA 04-1737, MB Docket No. 04-78, RM-10866]

Digital Television Broadcast Service; Ponce, PR

AGENCY: Federal Communications Commission.

ACTION: Final rule.

SUMMARY: The Commission, at the request of Siete Grande Television, Inc., substitutes DTV channel 8c for DTV channel 66 at Ponce, Puerto, Rico. See 69 FR 19363, April 13, 2004. DTV channel 8c can be allotted to Ponce in compliance with the principle community coverage requirements of section 73.625(a) at reference coordinates 18-02-52 N. and 66-39-16 W. with a power of 50, HAAT of 88 meters and with a DTV service population of 1047 thousand. With this action, this proceeding is terminated.

DATES: Effective August 16, 2004.

FOR FURTHER INFORMATION CONTACT: Pam Blumenthal, Media Bureau, (202) 418-1600.

SUPPLEMENTARY INFORMATION: This is a synopsis of the Commission's Report and Order, MB Docket No. 04-78, adopted June 18, 2004, and released June 30, 2004. The full text of this document is available for public inspection and copying during regular business hours in the FCC Reference Information Center, Portals II, 445 12th Street, SW., Room CY-A257, Washington, DC. This document may also be purchased from the Commission's duplicating contractor, Qualex International, Portals II, 445 12th Street, SW., CY-B402, Washington, DC, 20554, telephone (202) 863-2893, facsimile (202) 863-2898, or via e-mail qualexint@aol.com. The Commission will send a copy of this Report and Order in a report to be sent to Congress and the General Accounting Office pursuant to the Congressional Review Act, see 5 U.S./c,801(a)(1)(A).

List of Subjects in 47 CFR Part 73

Digital television broadcasting, Television.

Part 73 of title 47 of the Code of Federal Regulations is amended as follows:

PART 73—[AMENDED]

1. The authority citation for part 73 continues to read as follows:

Authority: 47 U.S.C. 154, 303, 334 and 336.

§ 73.622 [Amended]

2. Section 73.622(b), the Table of Digital Television Allotments under Puerto Rico, is amended by removing DTV channel 66 and adding DTV channel 8c at Ponce.

Federal Communications Commission.
Barbara A. Kreisman,
Chief, Video Division, Media Bureau.

[FR Doc. 04-15637 Filed 7-8-04; 8:45 am]

BILLING CODE 6712-01-P